ENVIRONMENTAL PROTECTION AGENCY

[EPA-HQ-OW-2011-0424; FRL 9510-3]

Agency Information Collection Activities; Submission to OMB for Review and Approval; Comment Request; State Water Quality Program Management Resource Analysis (New)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before February 9, 2012.

ADDRESSES: Submit your comments, referencing Docket ID No. EPA-HQ-OW-2011-0424, to (1) EPA online using www.regulations.gov (our preferred method), by email to ow-docket@epa.gov, or by mail to: EPA Docket Center, Environmental Protection Agency, Water Docket, Mail Code: 28221T, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Kit Farber, Planning, Information, and Resource Management Staff, Office of Wastewater Management, Mail Code 4201M, Environmental Protection Agency, 1200 Pennsylvania Ave. NW., Washington, DC 20460; telephone number: (202) 564-0601; fax number: (202) 501-2346; email address: farber.kit@epa.gov.

SUPPLEMENTARY INFORMATION: EPA has submitted the following ICR to OMB for review and approval according to the procedures prescribed in 5 CFR 1320.12. On July 27, 2011 (76 FR 44904), EPA sought comments on this ICR pursuant to 5 CFR 1320.8(d). EPA received no comments. Any additional comments on this ICR should be submitted to EPA and OMB within 30 days of this notice.

EPA has established a public docket for this ICR under Docket ID No. EPA-HQ-OW-2011-0424, which is available for online viewing at www.regulations.gov, or in person viewing at the Water Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is (202) 566-1744, and the telephone number for the Water Docket is (202) 566-2426.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: State Water Quality Program Management Resource Analysis (New).

ICR Numbers: EPA ICR No. 2433.01, OMB Control No. 2040—NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA, in partnership with states, is conducting the State Water Quality Program Management Resource Analysis to enumerate current and future expenditures and resources for the administration and management of state water quality programs, and to quantify the resource needs for the administration and management of state water quality programs to implement the Clean Water Act (CWA). This effort builds on an expenditure and resource needs data collection effort conducted by EPA in collaboration with the states in 1998 and 2000.

EPA requires this information to comprehend resource expenditures and needs for the administration and management of the water quality programs under 33 U.S.C. 125 et seq. This effort, supported by EPA and the states, is necessary to develop strategies for better managing state water quality programs that implement the CWA, thus ensuring the long-term sustainability, efficiency, and effectiveness of these programs. This effort also helps states and EPA to effectively target resources to meet EPA's FY 2011-2015 strategic goals of protecting the nation's waters and enforcing environmental laws.

The data collection will facilitate creation of a detailed activity-based workload model to serve as a long-term budgeting, program management, and progress tracking tool for the states and EPA to use in the future. This is a one-time collection effort by the Office of Wastewater Management and responses to this ICR are voluntary.

This information will be collected by EPA and made available to the states and to the public in accordance with the requirements of the Freedom of Information Act.

Burden Statement: The annual public reporting and recordkeeping burden for this collection of information is estimated to average 63 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State water quality agencies.

Estimated Number of Respondents: 20.

Frequency of Response: Once, Annually.

Estimated Total Annual Hour Burden: 1,252.

Estimated Total Annual Cost: $49,740, which includes annual labor costs only, since no capital or operation and maintenance costs are associated with this ICR.

Changes in the Estimates: This is a new collection, thus there is no currently approved ICR.

Dated: January 4, 2012.
John Moses,
Director, Collection Strategies Division.

[FR Doc. 2012-214 Filed 1-9-12; 8:45 am]

BILLING CODE 6560-50-P